DEPARTMENT OF HOMELAND SECURITY

Federal Emergency Management Agency

Agency Information Collection Activities: Proposed Collection; Comment Request

AGENCY: Federal Emergency Management Agency, DHS.

ACTION: Notice and request for comments.

SUMMARY: The Federal Emergency Management Agency (FEMA), as part of its continuing effort to reduce paperwork and respondent burden, invites the general public and other Federal agencies to take this opportunity to comment on a proposed revised information collection. In accordance with the Paperwork Reduction Act of 1995, this notice seeks comments concerning a State exemption from the requirement to purchase flood insurance with respect to State-owned structures.

SUPPLEMENTARY INFORMATION: Section 102(c) of the Flood Disaster Protection Act of 1973 (the Act) enables the Federal Insurance Administration (FIA) to grant a State having an adequate plan of self-insurance for its State-owned buildings an exemption from the insurance purchase requirements of the Act. In 44 CFR part 75 standards are established with respect to the Federal Insurance Administrator's determinations that a State's plan of self-insurance is adequate and satisfactory from the requirement of purchasing flood insurance coverage for State-owned structures and their contents in areas identified by FEMA.

Collection of Information

Title: Exemption of State-Owned Properties Under Self-Insurance.

Type of Information Collection: Revision of a currently approved collection.

OMB Number: 1660-0013.

Form Numbers: None.

Abstract: Application for exemption is made to the Federal Insurance Administration by the Governor or other duly authorized official of the State accompanied by sufficient supporting documentation, which certifies that the plan of self-insurance upon which the application for exemption is based meets or exceed the standards set forth in 44 CFR 75.11.

Affected Public: State, Local, or Tribal Governments.

Estimated Total Annual Burden Hours: 100 hours.

Annual Hour Burden
Data collection activity/instrument | Number of respondents | Frequency of responses | Hour burden per response | Annual responses | Total annual burden hours
| (A) | (B) | (C) | (D) = (A × B) | (C × D)
Letter of Application | 20 | 1 | 5 | 20 | 100
Total | 20 | 1 | 5 | 20 | 100

Estimated Cost: The estimated burden hour cost to respondents using wage rate categories for State Government managerial positions, per Bureau of Labor Statistics (BLS) is estimated to be $3,090 annually. The cost to the Federal Government for dedicating approximately 80 hours annually, for reviewing and data entry associated with this collection is estimated to be $2,158.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before November 13, 2007.

ADDRESSES: Interested persons should submit written comments to Chief, Records Management and Privacy, Information Resources Management Branch, Information Technology Services Division, Federal Emergency Management Agency, 500 C Street, SW., Room 609, Washington, DC 20472.

FOR FURTHER INFORMATION CONTACT: Contact Mary Ann Chang, Insurance Examiner, Federal Insurance Administration, (202) 646-2790 for additional information. You may contact the Records Management Branch for copies of the proposed collection of information at facsimile number (202) 646-3347 or e-mail address: FEMA-Information-Collections@dhs.gov.

Dated: August 30, 2007.
John A. Sharetts-Sullivan,
Chief, Records Management and Privacy Information Resources Management Branch, Information Technology Services Division, Federal Emergency Management Agency, Department of Homeland Security.

[FR Doc. E7-17794 Filed 9-10-07; 8:45 am]

BILLING CODE 9110-11-P